DEPARTMENT OF VETERANS AFFAIRS

[OMB Control No. 2900-0036]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before December 13, 2004.

FOR FURTHER INFORMATION CONTACT: Denise McLamb, Records Management Service (005E3), Department of Veterans Affairs, 810 Vermont Avenue, NW., Washington, DC 20420, (202) 273-8030, FAX (202) 273-5981 or e-mail denise.mclamb@mail.va.gov. Please refer to “OMB Control No. 2900-0036.” Send comments and recommendations concerning any aspect of the information collection to VA's OMB Desk Officer, OMB Human Resources and Housing Branch, New Executive Office Building, Room 10235, Washington, DC 20503 (202) 395-7316. Please refer to “OMB Control No. 2900-0036” in any correspondence

SUPPLEMENTARY INFORMATION: Title: Statement of Disappearance, VA Form 21-1775.

OMB Control Number: 2900-0036.

Type of Review: Extension of a currently approved collection.

Abstract: VA Form 21-1775 is used to gather the necessary information to determine if a decision of presumptive death can be made for benefit payment purposes. A formal presumption of death is required when a veteran has been missing for over seven years.

An agency may not conduct or sponsor, and a person is not required to respond to a collection of information unless it displays a currently valid OMB control number. The Federal Register Notice with a 60-day comment period soliciting comments on this collection of information was published on June 15, 2004 at pages 33466-33467.

Affected Public: Individuals or households.

Estimated Annual Burden: 28 hours.

Estimated Average Burden Per Respondent: 2 hours 45 minutes.

Frequency of Response: One-time.

Estimated Number of Respondents: 10.

Dated: October 28, 2004.
By direction of the Secretary.
Loise Russell,
Director, Records Management Service.

[FR Doc. 04-25145 Filed 11-10-04; 8:45 am]

BILLING CODE 8320-01-P